DEPARTMENT OF EDUCATION

[CFDA No.: 84.069]

Office of Student Financial Assistance; Leveraging Educational Assistance Partnership Program and Special Leveraging Educational Assistance Partnership Program

AGENCY: Department of Education.

ACTION: Notice of the closing date for receipt of State applications for fiscal year 2000.

SUMMARY: The Secretary of Education (Secretary) gives notice of the closing date for receipt of State applications for fiscal year 2000 funds under the Leveraging Educational Assistance Partnership (LEAP) and Special Leveraging Educational Assistance Partnership (SLEAP) programs. The LEAP Program, through matching formula grants to States, provides grant aid to students with substantial financial need to help them pay for their postsecondary education costs.

The SLEAP Program, through matching formula grants to States: (1) Provides aid to students with financial need to help them pay for their postsecondary education costs; or (2) helps the State to carry out service programs to strengthen the opportunities for elementary and secondary students with financial need to enter postsecondary education. Both the LEAP and SLEAP programs support Goals 2000, the President's strategy for moving the Nation toward the National Education Goals, by enhancing opportunities for postsecondary education. The National Education Goals call for increasing the rate at which students graduate from high school and pursue high quality postsecondary education.

Under section 415C(a) of the Higher Education Act of 1965, as amended (HEA), a State must submit an application to participate in the LEAP and SLEAP programs through the State agency that administered its LEAP Program as of July 1, 1985, unless the Governor of the State has subsequently designated, and the Secretary has approved, a different State agency to administer the LEAP Program.

The Secretary is authorized to accept applications from the 50 States, the District of Columbia, the Commonwealth of Puerto Rico, American Samoa, Guam, the Commonwealth of the Northern Mariana Islands, and the Virgin Islands.

Authority for the LEAP and SLEAP programs is contained in sections 415A through 415F of the HEA.

Closing Date for Transmittal of Applications: Applications for fiscal year 2000 LEAP and SLEAP funds must be mailed or hand-delivered by May 15, 2000.

Application Forms: The Office of Student Financial Assistance Programs mails the required application forms for receiving LEAP and SLEAP funds to officials of the appropriate State agency in each State or territory at least 30 days before the closing date.

Applications Delivered by Mail: An application sent by mail must be addressed to: Mr. Greg Gerrans, Financial Partners, U.S. Department of Education, Office of Student Financial Assistance Programs, 7th and D Streets, S.W., ROB-3, Room 4616, Washington, DC 20202.

The Secretary accepts the following proof of mailing

(1) A legibly dated U.S. Postal Service postmark;

(2) A legible mail receipt with the date of mailing stamped by the U.S. Postal Service;

(3) A dated shipping label, invoice, or receipt from a commercial carrier; or (4) Any other proof of mailing acceptable to the Secretary of Education.

If an application is sent through the U.S. Postal Service, the Secretary does not accept either of the following as proof of mailing:

(1) A private metered postmark; or

(2) A mail receipt that is not dated by the U.S. Postal Service.

The Department of Education encourages applicants to use certified or at least first-class mail.

A late applicant cannot be assured that its application will be considered for fiscal year 2000 funding.

Applications Delivered By Hand: Applications that are hand-delivered must be taken to Mr. Greg Gerrans, Financial Partners, U.S. Department of Education, Office of Student Financial Assistance Programs, 7th and D Streets, S.W., ROB-3, Room 4616, Washington, DC. Hand-delivered applications will be accepted between 8 a.m. and 4:30 p.m. daily (Eastern time), except Saturdays, Sundays, and Federal holidays.

Applications that are hand-delivered will not be accepted after 4:30 p.m. on the closing date and cannot be assured of consideration.

Program Information: Section 415C(a) of the HEA requires that an annual application be submitted for a State or territory to receive LEAP and SLEAP funds. In preparing the application, each State agency should be guided by the table of allotments provided in the application package. State allotments are determined according to the statutorily mandated formula under section 415B of the HEA and are not negotiable. A State may also request its share of reallotment, in addition to its basic allotment, which is contingent upon the availability of such additional funds.

In fiscal year 1999, 47 States, the District of Columbia, American Samoa, Guam, Northern Mariana Islands, Puerto Rico, the Trust Territory (Palau), and the Virgin Islands received funds under the LEAP Program.

Applicable Regulations: The following regulations are applicable to the LEAP Program:

(1) The LEAP Program regulations in 34 CFR part 692.

(2) The Student Assistance General Provisions in 34 CFR part 668.

And the following regulations are applicable to both the LEAP and SLEAP programs:

(3) The Education Department General Administrative Regulations (EDGAR) in 34 CFR part 75.60 through 75.62 (Ineligibility of Certain Individuals to Receive Assistance), part 76 (State-Administered Programs), part 77 (Definitions That Apply to Department Regulations), part 79 (Intergovernmental Review of Department of Education Programs and Activities), part 80 (Uniform Administrative Requirements for Grants and Cooperative Agreements to State and Local Governments), part 82 (New Restrictions on Lobbying), part 85 (Governmentwide Debarment and Suspension (Nonprocurement) and Governmentwide Requirements for Drug-Free Workplace (Grants)), part 86 (Drug-Free Schools and Campuses) and parts 97, 98, and 99 (Protection of Human Subjects).

FOR FURTHER INFORMATION CONTACT: For further information contact Mr. Greg Gerrans, Program Specialist, Financial Partners, U.S. Department of Education, Office of Student Financial Assistance Programs, 7th and D Streets, S.W., ROB-3, Room 4616, Washington, DC 20202; telephone (202) 401-2280. Individuals who use a telecommunications device for the deaf (TDD) may call the Federal Information Relay Service (FIRS) at 1-800-877-8393.

Individuals with disabilities may obtain this document in an alternate format (e.g., Braille, large print, audiotape, or computer diskette) on request to the contact person listed in the preceding paragraph.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.access.gpo.gov/nara/index.html

(Authority: 20 U.S.C. 1070c et seq.)

Dated: March 17, 2000.
Greg Woods,
Chief Operating OfficerOffice of Student Financial Assistance Programs.

[FR Doc. 00-7253 Filed 3-22-00; 8:45 am]

BILLING CODE 4000-01-P